DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2001 Survey of Program Dynamics.

Form Number(s): SPD-21005, SPD-21006, SPD-21007, SPD-21008, SPD-21009, SPD-21103(L), SPD-21105(L), SPD-21107(L), SPD-21109(L), SPD-21113(L), SPD-21999.

Agency Approval Number: 0607-0838.

Type of Request: Revision of a currently approved collection.

Burden: 37,023 hours.

Number of Respondents: 75,225.

Avg Hours Per Response: 29.5 minutes.

Needs and Uses: The Census Bureau seeks OMB approval to conduct the 2001 Survey of Program Dynamics (SPD). The SPD provides the basis for an overall evaluation of how well welfare reforms are achieving the aims of the Administration and the Congress and meeting the needs of the American people. This survey simultaneously measures the important features of the full range of welfare programs, including programs that are being reformed and those that are unchanged, and the full range of other important social, economic, demographic, and family changes that will facilitate or limit the effectiveness of the reforms.

The SPD is a longitudinal study that follows a subset of the respondents from the 1992 and 1993 panels of the Survey of Income and Program Participation (SIPP). The SPD was first implemented in the spring of 1997 with a bridge survey that provided a link to baseline data for the period prior to the implementation of welfare reforms. The first full-scale SPD was conducted in 1998. Annual surveys are currently planned through 2002. The data gathered for the 10-year period (1992-2002) will aid in assessing short- to medium-term consequences of outcomes of the welfare legislation.

The 2001 SPD instrument will remain largely unchanged from 2000. A new response category will be added to an existing question regarding types of health insurance coverage. Also, a paper Adolescent Self-Administered Questionnaire (SAQ) for 12- to 17-year-olds will be added. The Adolescent SAQ was last asked in the 1998 SPD. The 2001 SPD is conducted by our interviewing staff using a computer-assisted interviewing instrument on laptops during personal and telephone interviews.

In order to improve the validity of the SPD data we supplemented the 2000 SPD sample with 3,500 former SIPP households who were non-interviews in the 1997 SPD. Contingent on Congressional funding, we plan to continue interviewing these 3,500 households and add an additional 6,000 former SIPP households to the 2001 SPD sample. As in previous years, we will offer monetary incentives to select groups of respondents in order to maintain and improve response rates.

Affected Public: Individuals or households.

Frequency: Annually.

Respondent's Obligation: Voluntary.

Legal Authority: Title 42 U.S.C., Section 614.

OMB Desk Officer: Susan Schechter, (202) 395-5103.

Copies of the above information collection proposal can be obtained by calling or writing Madeleine Clayton, Departmental Forms Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: November 30, 2000.
Madeleine Clayton,
Departmental Forms Clearance Officer, Office of the Chief Information Officer.

[FR Doc. 00-30962 Filed 12-05-00; 8:45 am]

BILLING CODE 3510-07-P